DEPARTMENT OF ENERGY

Federal Energy Regulatory Commission

Combined Notice of Filings

Take notice that the Commission has received the following Natural Gas Pipeline Rate and Refund Report filings:

Filings Instituting Proceedings

Docket Numbers: RP21-1096-000.

Applicants: El Paso Natural Gas Company, L.L.C.

Description: § 4(d) Rate Filing: Non-Conforming Agreement Update (SoCal Sept-Oct 2021) to be effective 9/3/2021.

Filed Date: 9/2/21.

Accession Number: 20210902-5127.

Comment Date: 5 p.m. ET 9/14/21.

Docket Numbers: RP20-921-000.

Applicants: Maritimes & Northeast Pipeline, L.L.C.

Description: Refund Report: RP20-921 Refund Report to be effective N/A.

Filed Date: 9/2/21.

Accession Number: 20210902-5092.

Comment Date: 5 p.m. ET 9/14/21.

The filings are accessible in the Commission's eLibrary system (https://elibrary.ferc.gov/idmws/search/fercgensearch.asp) by querying the docket number.

Any person desiring to protest in any the above proceedings must file in accordance with Rule 211 of the Commission's Regulations (18 CFR 385.211) on or before 5:00 p.m. Eastern time on the specified comment date.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2021.
Kimberly D. Bose,
Secretary.

[FR Doc. 2021-19530 Filed 9-9-21; 8:45 am]

BILLING CODE 6717-01-P